FEDERAL DEPOSIT INSURANCE CORPORATION

[OMB No. 3064-NEW]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on a proposed new information collections described below.

DATES: Comments must be submitted on or before November 25, 2024.

ADDRESSES: Interested parties are invited to submit written comments to the FDIC by any of the following methods:

• Agency Website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION:

1. Title: 2025 FDIC Survey of Deposit Insurance Awareness.

OMB Number: 3064-NEW.

Form Number: None.

Affected Public: Individual members of the public.

Burden Estimate:

Frequency of Response: Once.

Estimated Number of Respondents: 6,500.

Average Time per Response: 4 minutes.

Estimated Total Annual Burden: 26,000 minutes (434 hours).

General Description of Collection: The FDIC proposes to field a statistical consumer survey to assess awareness of the FDIC and of deposit insurance. Survey results will inform FDIC public awareness, communication, education, outreach and research efforts regarding deposit insurance, and will identify information and awareness gaps in terms of content and demographic segments. Research questions will cover consumers' knowledge of, attitudes towards, and behaviors regarding deposit insurance. The proposed 2025 FDIC Survey of Deposit Insurance Awareness is intended to collect information regarding what consumers know about deposit insurance and how they learn it, what consumers think about deposit insurance and banking, and how this information shapes financial decisions. The survey will inform research and programmatic efforts to improve consumers' awareness and understanding of deposit insurance, to help fulfill the agency's mission of maintaining stability and public confidence in the nation's financial system.

The survey will assess consumers' awareness and knowledge of the FDIC and its role regarding deposit insurance, including their understanding of the types of institutions and situations where deposit insurance applies, and the sources they use to learn about deposit insurance. The survey will also assess whether deposit insurance impacts consumers' confidence in the banking system and perceptions and use of bank and nonbank financial services, including their likelihood to consider deposit insurance when making decisions about financial products and services. Finally, the survey will collect background information regarding consumers' use of some bank and nonbank products, and the types of institutions they use to save or store money inside and outside of the banking system.

The survey will be conducted in spring 2025 as part of Porter Novelli's PN Styles survey, using the IPSOS Knowledge Panel, a probability-based online panel in the U.S. PN Styles is a large-scale, representative survey of U.S. adults that tracks consumer attitudes and behaviors.

Request for Comment:

Comments are invited on (a) whether the collections of information are necessary for the proper performance of the FDIC's functions, including whether the information has practical utility; (b) the accuracy of the estimates of the burden of the information collections, including the validity of the methodology and assumptions used; (c) ways to enhance the quality, utility, and clarity of the information to be collected; and (d) ways to minimize the burden of the collections of information on respondents, including through the use of automated collection techniques or other forms of information technology. All comments will become a matter of public record.

Federal Deposit Insurance Corporation.
Dated at Washington, DC, September 19, 2024.
James P. Sheesley,
Assistant Executive Secretary.

[FR Doc. 2024-21907 Filed 9-24-24; 8:45 am]

BILLING CODE 6714-01-P